DEPARTMENT OF HEALTH AND HUMAN SERVICES

Centers for Disease Control and Prevention

[30 Day-07-0727]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Survey of Illness and Injury Among Backcountry Users in Yellowstone National Park—Revision—Coordinating Center for Infectious Diseases (CCID), Centers for Disease Control and Prevention (CDC).

Background and Brief Description

There are few data on the risk factors for illness and injury among persons who travel into the backcountry in the United States. The backcountry encompasses primitive or wilderness areas that lack most facilities and services and that are reached primarily by hiking, boating, or horseback. In general, backcountry users must bring in their own supplies (such as shelter, food, water, or water treatment supplies). As many as 56% to 94% of long-distance hikers and backpackers have reported experiencing illnesses or injuries during their time in the backcountry.

Such a high burden of disease has significant medical and economic implications given the increasing popularity of backcountry use. In 2004, an estimated 12% of Americans age 16 years and older (about 26 million persons) went backpacking in the previous 12 months, which involved camping for one or more nights along a trail and carrying food, shelter, and utensils with them. In the same period of time, about 15% (or 33 million persons) camped in primitive settings that usually lacked restrooms, hookups, and most facilities and services. In fact, camping in backcountry areas grew by about 184% from 1982-83 to 2004. While people can travel in the backcountry in many locations and on both private and public lands, many travelers hike, backpack, and camp in the backcountry in national parks. In 2006, there were more than 272 million recreational visits to national parks with more than 1.6 million overnight stays in the backcountry. Yellowstone National Park alone had 12,673 persons visit the backcountry in 2006, accounting for more than 37,000 overnight stays.

Because little is known about the health outcomes for visitors who use the backcountry areas of our nation's parks, advice to park managers and the public is currently general in nature, based only on standard disease prevention principles. Furthermore, some outdoor use groups have recently questioned some of this standard advice, such as the universal need for careful filtration and disinfection of backcountry drinking water. This study will investigate behavioral and environmental risk factors that may be associated with illness and injury among persons who require park permits to travel into backcountry areas in Yellowstone National Park during the backcountry season from May 1-Oct. 31, 2008. The data collected will be used to provide an estimate of the burden of illness and injury among backcountry users and will also provide information about a variety of risk factors for illness and injury in the backcountry, including the risks associated with drinking untreated water from lakes and streams. With this information, the National Park Service (NPS) will be able to address many of the questions raised by outdoor users and public health officials, and improve and strengthen evidence-based NPS guidelines for backcountry health and sanitation practices. To gather this information, consent to contact after the conclusion of the backcountry trip will be requested from an estimated 10,138 adult backcountry users when they present to the Yellowstone National Park's permit offices prior to entering the backcountry. A questionnaire (in either Internet-based or paper-based format) will then be offered to an estimated 3,532 adult backcountry users who consent to be contacted. Participants will be asked about their health (before, during and after backcountry travel), water consumption, water preparation habits, food consumption, food preparation habits, sanitation practices, recreational water use, animal exposure, and demographics.

This study is the beginning of what will be an on-going effort to improve the science-basis of the NPS recommendations and policies related to protecting human health in the backcountry. This effort seeks to begin to identify disease transmission pathways and assess disease and injury risks associated with specific activities, choices, and behaviors of backcountry visitors, such as water purification, sanitation practices, and hygiene. Thoroughly understanding transmission pathways and the interactions of agent, environment, and host will enable the NPS to effectively and efficiently improve visitor protection efforts. There will be no cost to respondents other than their time. Participation is voluntary and will not affect the application process for the backcountry use permit. The total estimated annualized hours requested are 2,141.

Estimated Annualized Burden Hours
Form name | Number of respondents | Number responses per respondent | Average burden per response (in hours)
Consent to Further Contact | 10,138 | 1 | 2/60
Web-Based Questionnaire | 3,423 | 1 | 30/60
Paper-Based Questionnaire | 109 | 1 | 50/60

Dated: June 7, 2007.
Maryam Daneshvar,
Acting Reports Clearance Officer, Centers for Disease Control and Prevention.

[FR Doc. E7-11384 Filed 6-12-07; 8:45 am]

BILLING CODE 4163-18-P